NATIONAL AERONAUTICS AND SPACE ADMINISTRATION

[Notice (04-035)]

Notice of Prospective Patent License

AGENCY: National Aeronautics and Space Administration.

ACTION: Notice of prospective patent license.

SUMMARY: NASA hereby gives notice that Laura Lee Desrosiers Curtis LLC of McLean, Virginia, has applied for a partially exclusive patent license to practice the invention described and claimed in NASA Case No. KSC-12386 entitled “Wireless Instrumentation System and Power Management Scheme Therefore,” which is assigned to the United States of America as represented by the Administrator of the National Aeronautics and Space Administration. Written objections to the prospective grant of a license should be sent to Randall M. Heald, Assistant Chief Counsel/Patent Counsel at John F. Kennedy Space Center.

DATES: Responses to this Notice must be received by March 16, 2004.

FOR FURTHER INFORMATION CONTACT: Randall M. Heald, Assistant Chief Counsel/Patent Counsel, John F. Kennedy Space Center, Mail Code: CC-A, Kennedy Space Center, FL 32899, telephone (321) 867-7214.

Dated: February 23, 2004.
Robert M. Stephens,
Deputy General Counsel.

[FR Doc. 04-4413 Filed 2-27-04; 8:45 am]

BILLING CODE 7510-01-P